DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2001, there were 12 applications approved. This notice also includes information on one application, approved in January 2001, inadvertently left off the January 2001 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Hattiesburg-Laurel Regional Airport Authority, Hattiesburg, Mississippi.

Application Number: 01-03-C-00-PIB.

Application Type: Impose and use a PFC.

PFC Level: $4.50.

Total PFC Revenue Approved In This Decision: $149,610.

Earliest Charge Effective Date: June 1, 2001.

Estimated Charge Expiration Date: December 1, 2003.

Class of Air Carriers Not Required To Collect PFC'S: None.

Brief Description of Projects Approved for Collection and Use:

Acquire aircraft rescue and firefighting (ARFF) vehicle.

Design phase of runway overlay.

Install security fencing.

Install new airfield signage.

Acquire land for development.

Acquire security vehicle.

Construct ramp edge taxiway and apron expansion.

Acquire security communications equipment.

Terminal renovations, phase I.

Acquire security vehicle.

Terminal renovations, phase II.

Airfield erosion control, ditch #1.

Rehabilitate security system.

Terminal renovations, phase III.

Decision Date: January 10, 2001.

For Further Information Contact: Patrick Vaught, Jackson Airports District Office, (601) 664-9885.

Public Agency: Milwaukee County, Milwaukee, Wisconsin.

Application Number: 00-06-C-00-MKE.

Application Type: Impose and use a PFC.

PFC Level: $3.00.

Total PFC Revenue Approved in This Decision: $22,667,375.

Earliest Charge Effective Date: May 1, 2004.

Estimated Charge Expiration Date: July 1, 2006.

Class of Air Carriers Not Required To Collect PFC'S: Part 135 air taxi/commercial operators.

Determination: Approved. Based on information contained in the public agency's application, the FAA has determined that the approved class accounts for less than 1 percent of the total annual enplanements at General Mitchell International Airport (MKE).

Brief Description of Projects Approved for Collection at MKE and Use at MKE:

Pavement replacement taxiways A and A3.

Reconstruct perimeter road.

Rehabilitate runway 7R/25L.

C concourse stem and six-gate expansion—design.

Acquire flight information display and paging systems.

Master plan update.

Terminal apron joint repair.

Sealcoat runways 7L/25R and 13/31 and associated taxiways.

Electrical master plan.

Rehabilitate taxiway B.

Construct abrasive storage building.

Upgrade security system.

Runway 1L/19R centerline and touchdown zone lights.

C concourse taxiway expansion.

Rehabilitate baggage claim area—design.

Rehabilitate taxiway M.

Construct maintenance storage building.

Hush house notice suppressor—design.

Brief Description of Project Approved for Collection at MKE and Use at Lawrence J. Timmerman Airport: Rehabilitate apron and taxilanes.

Brief Description of Project Approved for Collection at MKE:

C concourse stem and six-gate expansion—construction.

Decision Date: March 8, 2001.

For Further Information Contact: Sandra E. DePottey, Minneapolis Airports District Office, (612) 713-4363.

Public Agency: Town of Islip, New York.

Application Number: 01-04-C-00-ISP.

Application Type: Impose and use a PFC.

PFC Level: $3.00.

Total PFC Revenue Approved in This Decision: $441,949.

Earliest Charge Effective Date: June 1, 2005.

Estimated Charge Expiration Date: August 1, 2005.

Class of Air Carriers Not Required To Collect PFC's: Air taxi/commercial operators filing FAA Form 1800-31.

Determination: Approved. Based on information contained in the public agency's application, the FAA has determined that the approved class accounts for less than 1 percent of the total annual enplanements at Long Island Mac Arthur Airport.

Brief Description of Projects Approved for Collection and Use:

Rehabilitation of runway 10/28.

Terminal master plan and airport layout plan update.

Acquisition of an ARFF vehicle.

Acquisition of two airport vacuum sweepers.

Purchase one airport incident command vehicle.

Purchase snow removal equipment;

Purchase two airport security vehicles.

Rehabilitate taxiway A.

Decision Date: March 12, 2001.

For Further Information Contact: Dan Vornea, New York Airports District Office, (416) 227-3812.

Public Agency: County of Kern, Bakersfield, California.

Application Number: 01-03-C-00-BFL.

Application Type: Impose and use a PFC.

PFC Level: $4.50.

Total PFC Revenue Approved in This Decision: $9,086,000.

Earliest Charge Effective Date: May 1, 2002.

Estimated Charge Expiration Date: January 1, 2015.

Class of Air Carriers Not Required To Collect PFC's: None.

Brief Description of Project Approved for Collection and Use: New passenger terminal.

Brief Description of Project Approved for Use: Land acquisition for airport expansion.

Decision Date: March 16, 2001.

For Further Information Contact: David Delshad, Western Pacific Region Airports Division, (310) 725-3627.

Public Agency: Pitt-Greenville Airport Authority, Greenville, North Carolina.

Application Number: 01-02-C-00-PGV.

Application Type: Impose and use a PFC.

PFC Level: $4.50.

Total PFC Revenue Approved in This Decision: $1,480,404.

Earliest Charge Effective Date: July 1, 2001.

Estimated Charge Expiration Date: May 1, 2009.

Class of Air Carriers Not Required To Collect PFC's: None.

Brief Description of Projects Approved for Collection and Use:

Environmental assessment.

Relocate Highway 39.

Update airport layout plan.

Taxiway A extension.

Realignment/rehabilitation of taxiways A and B and air carrier apron (design only).

Rehabilitate ARFF building.

Rehabilitate runways.

Rehabilitate airfield lighting.

Rehabilitate navigational aids.

Rehabilitate terminal building.

Prepare PFC application.

Runway 2 safety area improvements.

Taxiway A relocation.

Air carrier apron rehabilitation.

Taxiway B relocation.

Acquire ARFF vehicle.

Land acquisition.

Brief Description of Projects Approved for Use:

Approach lighting system for runway 20.

Extend runway 20 by 500 feet.

Decision Date: March 19, 2001.

For Further Information Contact: Rans D. Black, Atlanta Airports District Office, (404) 305-7141.

Public Agency: County of Clinton, Plattsburgh, New York.

Application Number: 01-04-I-00-PLB.

Application Type: Impose a PFC.

PFC Level: $3.00.

Total PFC Revenue Approved in This Decision: $46,275.

Earliest Charge Effective Date: June 1, 2001.

Estimated Charge Expiration Date: December 1, 2002.

Class if Air Carriers Not Required To Collect PFC's: Non scheduled/on-demand operators filing FAA Form 1800-31.

Determination: Approved. Based on information contained in the public agency's application, the FAA has determined that the approved class accounts for less than 1 percent of the total annual enplanements at Clinton County Airport.

Brief Description of Projects Approved for Collection:

On airport obstruction removal (phases I and II).

Transient apron rehabilitation.

Decision Date: March 22, 2001.

For Further Information Contact: Robert Levine, New York Airports District Office, (516) 227-3807.

Public Agency: Lehigh-Northampton Airport Authority, Allentown, Pennsylvania.

Application Number: 01-05-C-00-ABE.

Application Type: Impose and use a PFC.

PFC Level: $3.00.

Total PFC Revenue Approved in This Decision: $2,807,572.

Earliest Charge Effective Date: June 1, 2001.

Estimated Charge Expiration Date: June 1, 2003.

Class of Air Carriers Not Required To Collect PFC's: Air taxi/commercial operators filing FAA Form 1800-31.

Determination: Approved. Based on information contained in the public agency's application, the FAA has determined that the approved class accounts for less than 1 percent of the total annual enplanements at Lehigh Valley International Airport.

Brief Description of Projects Approved for Collection and Use:

Land acquisition—runway 24 noise—Toye.

Land acquisition—runway 24 runway protection zone—Piechota, Stahley, Fegley, and Festa-A-Pizza.

Land acquisition—Runway 13 approach—Sovereign Bank and Allentown-Bethlehem Industrial.

Land acquisition for runway 24 noise compatibility.

Land acquisition—runway 13 approach—Willow Brook and Willow Brook east.

Land acquisition—24—Dr. Prah and Partridge/Peartree.

Mimic panel.

ARFF vehicle.

Master plan.

Rehabilitate runway 6/24.

Air cargo apron (phase I).

Noise monitoring system.

Part 150 study.

RON apron.

Decision Date: March 26, 2001.

For Further Information Contact: Patrick J. Sullivan, Harrisburg Airports District Office, (717) 730-2832.

Public Agency: Regional Airport Authority of Louisville and Jefferson County, Louisville, Kentucky.

Application Number: 01-02-C-00-SDF.

Application Type: Impose and use a PFC.

PFC Level: $3.00.

Total PFC Revenue Approved In This Decision: $16,398,940.

Earliest Charge Effective Date: January 1, 2015.

Estimated Charge Expiration Date: June 1, 2018.

Classes of Air Carriers Not Required To Collect PFC's: Any (1) air taxi and commercial operator; (2) Certified air carriers; and (3) certified route air carriers having fewer than 500 annual enplanements at Louisville International Airport (SDF).

Determination: Approved. Based on information contained in the public agency's application, the FAA has determined that each approved class accounts for less than 1 percent of the total annual enplanements at SDF.

Brief Description of Projects Approved for Collection and Use:

West perimeter road.

Flight track monitoring system.

ARFF station.

Passenger terminal modifications.

Charger terminal/customs facility.

Northeast terminal apron.

Decision Date: March 27, 2001.

For Further Information Contact: Jerry O. Bowers, Memphis Airports District Office, (901) 544-3495, extension 21.

Public Agency: Indiana Airport Authority, Indianapolis, Indiana.

Application Number: 01-03-C-00-IND.

Application Type: Impose and use a PFC.

PFC Level: $4.50.

Total PFC Revenue Approved in This Decision: $444,022,707.

Earliest Charge Expiration Date: April 1, 2022.

Estimated Charge Expiration Date: April 1, 2022.

Class of Air Carriers Not Required To Collect PFC's: Non-scheduled on-demand air carriers.

Determination: Approved. Based on information contained in the public agency's application, the FAA has determined that the approved class accounts for less than 1 percent of the total annual enplanements at Indianapolis International Airport.

Brief Description of Project Approved for Collection and Use at a $4.50 PFC Level: Midfield terminal.

Brief Description of Projects Approved for Collection and Use at a $3.00 PFC Level:

Preparation of PFC application (2000).

Preparation of PFC amendment and application (1996).

Decision Date: March 28, 2001.

For Further Information Contact: Gary K. Regan, Chicago Airports District Office, (847) 294-7525.

Public Agency: City of Manchester, New Hampshire.

Application Number: 01-09-C-00-MHT.

Application Type: Impose and use a PFC.

PFC Level: $3.00.

Total PFC Revenue Approved in This Decision: $700,000.

Earliest Charge Effective Date: April 1, 2017.

Estimated Charge Expiration Date: June 1, 2017.

Class of Air Carriers Not Required To Collect PFC's: Air taxi/commercial operators.

Determination: Approved. Based on information contained in the public agency's application, the FAA has determined that the approved class accounts for less than 1 percent of the total annual enplanements at Manchester Airport.

Brief Description of Project Approved for Collection and Use: Acquire ARFF vehicle.

Decision Date: March 28, 2001.

For Further Information Contact: Priscilla A. Scott, New England Region Airports Division, (781) 238-7614.

Public Agency: Kenton County Airport Board, Covington, Kentucky.

Application Number: 01-06-C-00-CVG.

Application Type: Impose and use a PFC.

PFC Level: $3.00.

Total PFC Revenue Approved in This Decision: $21,117,000.

Earliest Charge Effective Date: November 1, 2001.

Estimated Charge Expiration Date: June 1, 2002.

Classes of Air Carriers Not Required To Collect PFC's: (1) Part 121 supplemental operators which operate at the airport without an operating agreement with the public agency and enplane less than 1,500 passengers per year; (2) Part 135 on-demand air taxis, both fixed wing and rotary.

Determination: Approved. Based on the information contained in the public agency's application, the FAA has determined that each approved class accounts for less than 1 percent of the total annual enplanements at Cincinnati/Northern Kentucky International Airport.

Brief Description of Projects Approved for Collection and Use:

Noise compatibility program measures—1999 Part 150 update.

South detention basin closure.

Part 107.14 security system acquisition (original acquisition).

Brief Description of Project Approved in Part for Collection and Use: ARFF training facility upgrades.

Determination: Partially approved. The new propane-fired five-story concrete fire training tower is not eligible under the Airport Improvement Program in accordance with Program Guidance Letter, “Regional Burn Pits” (June 4, 1991). There are no Part 139 requirements for structural fire training and exercises involving elevated evacuations of a height commensurate with the largest aircraft using the airport. The approved amount was reduced from the amount requested by the estimated cost of the proposed fire training tower.

Decision Date: March 28, 2001.

For Further Information Contact: Jerry O. Bowers, Memphis Airports District Office, (901) 544-3495, extension 21.

Public Agency: Cheyenne Airport Board, Cheyenne, Wyoming.

Application Number: 01-02-C-00-CYS.

Application Type: Impose and use a PFC.

PFC Level: $4.50.

Total PFC Revenue Approved in This Decision: $407,728.

Earliest Charge Effective Date: August 1, 2005.

Estimated Charge Expiration Date: January 1, 2011.

Class of Air Carriers Not Required To Collect PFC's: None.

Brief Description of Projects Approved for Collection and Use:

Land acquisition for noise.

Glycol containment system.

Taxiway A extension.

Noise compatibility land development.

Storm drainage master plan.

Runways 12/30 and 8/26 safety area improvements.

Construct commercial service apron.

Decision Date: March 28, 2001.

For Further Information Contact: Christopher J. Schaffer, Denver Airports District Office, (303) 342-1258.

Public Agency: Jackson Hole Airport Board, Jackson, Wyoming.

Application Number: 01-07-C-00-JAC.

Application Type: Impose and use a PFC.

PFC Level: $4.50.

Total PFC Revenue Approved in This Decision: $111,930.

Earliest Charge Effective Date: June 1, 2002.

Estimated Charge Expiration Date: October 1, 2002.

Class of Air Carriers Not Required To Collect PFC's: None.

Brief Description of Projects Approved for Collection and Use:

Install medium intensity approach lighting system.

Air carrier apron reconstruction.

Brief Description of Projects Approved in Part for Collection and Use: Snow removal equipment and PFC administration.

Determination: The replacement of the snow plow attachment is considered maintenance and is not PFC eligible. The approved amount was reduced from the amount requested by the estimated cost of the snow plow attachment.

Brief Description of Project Withdraw: Aircraft parking apron extension.

Determination: This project was withdrawn by the public agency by letter dated December 18, 2000. Therefore, the FAA did not rule on this project in this decision.

Decision Date: March 30, 2001.

For Further Information Contact: Christopher J. Schaffer, Denver Airports District Office, (303) 342-1258.

Amendments To PFC Approvals
Amendment No., city, state | Amendment approved date | Original approved net PFC revenue | Amended approved net PFC revenue | Original estimated charge exp. date | Amended estimated charge exp. date
93-01-C-03-DAB, Daytona Beach, FL | 02/28/01 | $8,702,230 | $4,336,534 | 02/01/01 | 08/01/97
98-05-C-01-ESC, Escanaba, MI | 02/28/01 | 196,095 | 182,700 | 10/01/00 | 07/01/00
98-04-C-01-JST, Johnstown, PA * | 03/02/01 | 496,540 | 628,121 | 04/01/03 | 10/01/06
92-01-C-03-TWF, Twin Falls, ID * | 03/12/01 | 1,140,567 | 1,145,067 | 07/01/02 | 07/01/02
00-02-C-01-TWF, Twin Falls, ID * | 03/12/01 | 483,040 | 483,040 | 01/01/07 | 07/01/05
92-01-C-04-GJT, Grand Junction, CO | 03/21/01 | 1,794,117 | 1,787,415 | 04/01/03 | 04/01/03
96-02-U-03-GJT, Grand Junction, CO | 03/21/01 | NA | NA | 04/01/03 | 04/01/03
Note: The amendments denoted by an asterisk (*) include a change to the PFC level charged from $3.00 per enplaned passenger to $4.50 per enplaned passenger. For Johnstown, PA, this change is effective on May 1, 2001. For Twin Falls, ID, this change is effective on June 1, 2001.

Issued in Washington, DC, on April 26, 2001.
Eric Gabler,
Manager, Passenger Facility Charge Branch.

[FR Doc. 01-11265 Filed 5-3-01; 8:45 am]

BILLING CODE 4910-13-M